DEPARTMENT OF STATE

[Public Notice 4276]

Culturally Significant Objects Imported for Exhibition Determinations: “Himalayas: An Aesthetic Adventure”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “Himalayas: An Aesthetic Adventure,” imported from abroad for temporary exhibition within the United States, are of cultural significance. The objects are imported pursuant to loan agreements with the foreign owners. I also determine that the exhibition or display of the exhibit objects at The Art Institute of Chicago, Chicago, IL, from on or about April 5, 2003, to on or about July 27, 2003; Freer Gallery of Art and Arthur M. Sackler Gallery, Washington, DC, from on or about October 19, 2003, to on or about January 11, 2004, and at possible additional venues yet to be determined, is in the national interest. Public Notice of these Determinations is ordered to be published in the Federal Register.

FOR FURTHER INFORMATION CONTACT: For further information, including a list of the exhibit objects, contact Julianne Simpson, Attorney-Adviser, Office of the Legal Adviser, U.S. Department of State, (telephone: 202/619-6529). The address is U.S. Department of State, SA-44, 301 4th Street, SW., Room 700, Washington, DC 20547-0001.

Dated: February 10, 2003.
Patricia S. Harrison,
Assistant Secretary for Educational and Cultural Affairs, , Department of State.

[FR Doc. 03-3721 Filed 2-13-03; 8:45 am]

BILLING CODE 4710-08-P